ENVIRONMENTAL PROTECTION AGENCY

[FRL-6918-3]

Clean Water Act Section 303(d): Availability of Proposed Determinations That Total Maximum Daily Loads (TMDLs) Are Not Needed

AGENCY: Environmental Protection Agency (EPA).

ACTION: Notice of availability.

SUMMARY: This notice announces the availability for comment EPA proposed determinations that TMDLs are not needed for 54 waterbody/pollutant combinations in the Mermenatu and Vermilion/Teche river basins. EPA prepared the proposed determinations in response to a Court Order dated October 1, 1999, in the lawsuit Sierra Club, et al. v. Clifford et al., No. 96-0527, (E.D. La.). Under this court order, EPA is required to prepare TMDLs when needed for waters on the Louisiana 1998 section 303(d) list by December 31, 2007. EPA is also required to add or delete waters to the schedule as new data confirms that waters are or are not meeting water quality standards.

DATES: Comments on the 54 proposed determinations that TMDLs are not needed must be submitted in writing to EPA on or before January 17, 2001.

ADDRESSES: Comments on the proposed determinations should be sent to Ellen Caldwell, Environmental Protection Specialist, Water Quality Protection Division, U.S. Environmental Protection Agency Region 6, 1445 Ross Ave., Dallas, TX 75202-2733. For further information, contact Ellen Caldwell at (214) 665-7513. The administrative record file for the proposed determinations is available for public inspection at this address as well. The administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner. Discussion of the court's order may be found at 65 FR 54032 (September 6, 2000).

EPA Seeks Comments on 54 Proposed Determinations That TMDLs Are Not Necessary
Waterbody | Waterbody description | Suspected pollutant | Reason for delisting
050101 | Bayou Des Cannes—Headwaters to Mermentau | Turbidity | Assessment of new data and information shows it is meeting Water Quality Standards (WQS).
050102 | Bayou Joe Marcel | Turbidity | Assessment of new data and information show it is meeting WQS.
050103 | Bayou Mallet | Turbidity | Assessment of new data and information show it is meeting WQS.
050201 | Bayou Plaquemine Brule—Headwaters to Bayou Des Cannes | Chlorides Sulfates | Assessment of new data and information show it is meeting WQS.
050301 | Bayou Nezpique—Headwaters to Mermentau River | Turbidity | Assessment of new data and information show it is meeting WQS.
050401 | Mermentau River—Origin To Lake Arthur | Turbidity | Assessment of new data and information show it is meeting WQS.
050402 | Lake Arthur and Lower Mermentau | Turbidity | Assessment of new data and information shows it is meeting WQS.
050501 | Bayou Que de Tortue—Headwaters to Mermentau River | Chlorides Sulfates Phosphorus | Assessment of new data and information shows it is it meeting WQS.
050602 | Intracoastal Waterway | Turbidity | Assessment of new data and information shows it is meeting WQS.
050701 | Grand Lake | Turbidity | Assessment of new data and information shows it is meeting WQS.
050702 | Intracoastal Waterway | Turbidity | Assessment of new data and information shows it is meeting WQS.
050703 | White Lake | Sulfates | Assessment of new data and information shows it is meeting WQS.
050901 | Bays and Gulf Waters to State 3-mile Limit | Turbidity | Assessment of new data and information shows it is meeting WQS.
060202 | Bayou Cocodrie | Turbidity | Assessment of new data and information shows it is meeting WQS.
060203 | Chicot Lake | Turbidity | Assessment of new data and information shows it is meeting WQS.
060204 | Bayou Courtableau—Origin to West Atchafalaya Borrow Pit Canal | Chlorides Turbidity | Assessment of new data and information shows it is meeting WQS.
060205 | Bayou Teche—Headwaters at Bayou Courtableau to I-10 | Turbidity | Assessment of new data and information shows it is meeting WQS.
060207 | Bayou des Glaises Diversion Channel | Turbidity | Assessment of new data and information shows it is meeting WQS.
060208 | Bayou Boeuf—Headwaters to Bayou Courtableau | Chlorides Sulfates Turbidity | Assessment of new data and information shows it is meeting WQS.
060209 | Irish Ditch/Big Bayou—Unnamed Ditch to Irish Ditch | Salinity/TDS Chlorides Sulfates | Assessment of new data and information shows it is meeting WQS.
060210 | Bayou Carron | Turbidity | Assessment of new data and information shows it is meeting WQS.
060211 | West Atchafalaya Borrow Pit Canal | Chlorides Turbidity | Assessment of new data and information shows it is meeting WQS.
060212 | Chatlin Lake Canal and Bayou DuLac | Turbidity | Assessment of new data and information shows it is meeting WQS.
060401 | Bayou Teche—Keystone Locks and Dam to Charenton Canal | Turbidity | Assessment of new data and information shows it is meeting WQS.
060501 | Bayou Teche—Charenton Canal to Wax Lake Outlet | Turbidity | Assessment of new data and information shows it is meeting WQS.
060601 | Charenton Canal | Turbidity | Assessment of new data and information shows it is meeting WQS.
060701 | Tete Bayou | Turbidity | Assessment of new data and information shows it is meeting WQS.
060702 | Lake Fausse Point and Dauterive Lake | Turbidity | Assessment of new data and information shows it is meeting WQS.
060703 | Bayou du Portage | Turbidity | Assessment of new data and information shows it is meeting WQS.
060801 | Vermilion River—Head-waters at Bayou Fusilier—Bourbeaux Junction to New Flanders (Ambassador Caffery Bridge at Hwy 3073) | Chlorides Salinity/TDS Turbidity | Assessment of new data and information shows it is meeting WQS.
060802 | Vermilion River—From New Flanders (Ambassador Caffery Bridge at Hwy 3073) To Intracoastal Waterway | Salinity/TDS Chlorides Temp. Turbidity | Assessment of new data and information shows it is meeting WQS.
060803 | Vermilion River Cutoff | Turbidity | Assessment of new data and information shows it is meeting WQS.
060804 | Intracoastal Waterway | Turbidity | Assessment of new data and information shows it is meeting WQS.
060901 | Bayou Petite Anse | Turbidity | Assessment of new data and information shows it is meeting WQS.
060902 | Bayou Carlin (Delcambre Canal)—Lake Peigneur to Bayou Petite Anse (Estuarine) | Turbidity | Assessment of new data and information shows it is meeting WQS.
060903 | Bayou Tigre | Turbidity | Assessment of new data and information shows it is meeting WQS.
060904 | Vermilion River B890 Basin New Iberia Southern Drainage Canal | Turbidity | Assessment of new data and information shows it is meeting WQS.
060906 | Intracoastal Waterway | Turbidity | Assessment of new data and information shows it is meeting WQS.
060909 | Lake Peigneur | Turbidity | Assessment of new data and information shows it is meeting WQS.
061102 | Intracoastal Waterway | Turbidity | Assessment of new data and information shows it is meeting WQS.

EPA requests that the public provide to EPA any water quality related data and information that may be relevant to the 54 proposed determinations that TMDLs are not necessary. EPA will review all data and information submitted during the public comment period and revise the determinations where appropriate.

Dated: November 27, 2000.
Sam Becker,
Acting Director, Water Quality Protection Division, Region 6.

[FR Doc. 00-32148 Filed 12-15-00; 8:45 am]

BILLING CODE 6560-50-P